DEPARTMENT OF THE INTERIOR

Bureau of Land Management

[WY-020-1430-ES; WYW-149433]

Notice of realty action; classification and conveyance of public lands for recreation and public purposes in Park County, WY.

AGENCY: Bureau of Land Management, Interior.

SUMMARY: The following public lands in Park County, Wyoming, have been examined and found suitable for classification for conveyance to Park County under the provisions of the Recreation and Public Purposes Act, as amended (43 U.S.C. 869 et seq.). Park County intends to use the following lands for solid waste disposal purposes.

1. Sixth Principal Meridian, Park County, Wyoming

T. 52 N., R. 101 W.,

Sec. 17, SW¼SW¼, SW¼SE¼SW¼, S½NW¼SE¼SW¼, NW¼NW¼SE¼SW¼, W½SE¼SE¼SW¼, SW¼NE¼SE¼SW¼.

The land described contains approximately 65.00 acres.

The following public lands, currently under lease to Park County for solid waste disposal purposes, were previously classified in 1968 for lease. This classification will allow for the disposal of the existing, leased landfill area and access road to Park County under the Recreation and Public Purposes Act, as amended (43 U.S.C. 869 et seq.).

2. Sixth Principal Meridian, Park County, Wyoming

T. 52 N., R. 101 W.,

Sec. 20, W½NW¼, N½N½NE¼SW¼.

The land described contains approximately 90.00 acres.

The following public lands have been examined and found suitable for classification for conveyance for solid waste disposal purposes, under the provisions of the Recreation and Public Purposes Act, as amended (43 U.S.C. 869 et seq.). There is no application for conveyance of these lands at this time.

3. Sixth Principal Meridian, Park County, Wyoming

T. 52 N., R. 101 W.,

Sec. 17, NW¼SW¼, SW¼SW¼NW¼;

Sec. 18, E½SE¼SE¼, E½NW¼SE¼SE¼, NE¼SE¼, NE¼NW¼SE¼, W½SE¼NE¼, SE¼SE¼NE¼, E½SW¼NE¼, NW¼SW¼NE¼.

The land described contains approximately 185.00 acres.

FOR FURTHER INFORMATION CONTACT: Cara Blank, Cody Field Office, Bureau of Land Management, PO Box 518, Cody, Wyoming 82414, (307) 578-5900.

SUPPLEMENTARY INFORMATION: The lands are not needed for Federal purposes. The conveyance of these lands to Park County for sanitary landfill purposes is consistent with the Cody Resource Management Plan and would be in the public interest. The planning document and environmental assessment covering the proposed sale are available for review at the Bureau of Land Management, Cody Field Office, Cody, Wyoming. The conveyance, when completed, will be subject to the following terms, conditions, and reservations:

1. Provisions of the Recreation and Public Purposes Act and to all applicable regulations of the Secretary of the Interior.

2. A right-of-way to the United States for ditches and canals pursuant to the Act of August 30, 1890 (43 U.S.C. 945).

3. All minerals shall be reserved to the United States, together with the right to prospect for, mine, and remove such minerals from the same under applicable law and such regulations as the Secretary of the Interior may prescribe.

4. The patentee shall comply with all Federal and State laws applicable to the disposal, placement, or release of hazardous substances (substance as defined in 40 CFR part 302).

5. Park County, its successors or assigns, and the City of Cody (predecessor in interest) on the existing landfill, assume all liability for and shall defend, indemnify, and save the United States and its officers, agents, representatives, and employees (hereinafter referred to in this clause as the United States), from all claims, loss, damage, actions, causes of action, expense, and liability (hereinafter referred to in this clause as claims) resulting from, brought for, or on account of, any personal injury, threat of personal injury, or property damage received or sustained by any person or persons (including the patentee's employees) or property growing out of, occurring, or attributable directly or indirectly, to the disposal of solid waste on, or the release of hazardous substances from the lands described as the, Sixth Principal Meridian, Park County, Wyoming, T. 52 N., R. 101 W., sec. 17, SW¼SW¼, SW¼SE¼SW¼, S½NW¼SE¼SW¼, NW¼NW¼SE¼SW¼, W½SE¼SE¼SW¼, SW¼NE¼SE¼SW¼, sec. 20, W½NW¼, N½N½NE¼SW¼., regardless of whether such claims shall be attributable to: (1) the concurrent, contributory, or partial fault, failure, or negligence of the United States, or (2) the sole fault, failure, or negligence of the United States.

6. Existing rights of record at the time of patent issuance, including right-of-way grants WYW-89601, to Pacific Power & Light Company, for a power line; WYC-045214, to Great Falls Gas Company, for a 6″ pipeline; WYC-066394, to WAPA, for a 69 kV power line; WYW-94173, to Cody Gas Company, for an 8″ pipeline; WYW-112026, to WAPA, for a 115 kV power line; WYW-94163, to Pacific Power & Light Company, for a power line; and WYW-0313050, to Qwest Corporation, for a telephone line.

7. The land described in Summary Paragraph No. 1 has been conveyed for utilization as a solid waste disposal site. Records describing location of cells and other information about the solid waste disposal site are available from Park County. Solid waste commonly includes small quantities of household hazardous waste as determined in the Resource Conservation and Recovery Act of 1976, as amended (43 U.S.C. 6901), and defined in 40 CFR 261.4 and 261.5. Although there is no indication these materials pose any significant risk to human health or the environment, future land uses should be limited to those which do not penetrate the liner or final cover of the landfill unless excavation is conducted subject to applicable State and Federal requirements.

8. The land described in Summary Paragraph No. 2 has been conveyed for continued use as a solid waste disposal site. Records describing location of cells and other information about the solid waste disposal site are available from the Bureau of Land Management (Past use) and from Park County for past and continued use. Solid waste commonly includes small quantities of household hazardous waste as determined in the Resource Conservation and Recovery Act of 1976, as amended (43 U.S.C. 6901), and defined in 40 CFR 261.4 and 261.5. Although there is no indication these materials pose any significant risk to human health or the environment, future land uses should be limited to those which do not penetrate the liner or final cover of the landfill unless excavation is conducted subject to applicable State and Federal requirements.

9. Provided, that the land conveyed under Summary Paragraph No. 1, shall revert to the United States upon a finding, after notice and opportunity for a hearing, that the patentee has not substantially developed the lands in accordance with the approved plan of development on or before the date five years after the date of conveyance. No portion of the land shall under any circumstance revert to the United States if any such portion has been used for solid waste disposal or for any other purpose which may result in the disposal, placement, or release of any hazardous substance.

10. No portion of the land described in Summary Paragraph No. 2, shall under any circumstances revert to the United States.

11. If, at any time, the patentee transfers to another party ownership of any portion of the land described in Summary Paragraph No. 2, not used for the purpose(s) specified in the application and the plan of development, the patentee shall pay the Bureau of Land Management the fair market value, as determined by the authorized officer, of the transferred portion as of the date of transfer, including the value of any improvements thereon.

Eighteen AUMs within the Horse Center South Grazing Allotment, associated with the lands described in Summary Paragraph No. 1 and No. 2, will be canceled.

Conveyance of these lands to Park County is consistent with applicable Federal and County land use plans and will help meet the needs of Park County residents for solid waste disposal. For a period of 45 days from the date of publication of this notice in the Federal Register, interested parties may submit comments regarding the proposed conveyance or classification of the lands to the Field Manager, Cody Field Office, P.O. Box 518, Cody, Wyoming 82414.

Classification Comments: Interested parties may submit comments involving the request to amend the 1968 lease classification to include conveyance of the lands described in Summary Paragraph No. 2, as well as the classification of the lands described in Summary Paragraph No. 1 and 3, for disposal for landfill purposes. Comments on the classification are restricted to whether the lands are physically suited for the proposal, whether the use will maximize the future use or uses of the land, whether the use is consistent with local planning and zoning, or if the use is consistent with State and Federal programs.

Application Comments: Interested parties may submit comments regarding the specific use proposed in the application and plan of development, whether the Bureau of Land Management followed proper administrative procedures in reaching the decision; or any other factor not directly related to the suitability of the land for a sanitary landfill. Any adverse comments will be reviewed by the State Director, who may sustain, vacate, or modify this realty action. In the absence of any objections, the classification will become effective 60 days from the date of publication of this notice in the Federal Register.

Upon publication of this notice in the Federal Register, the lands will be segregated from all other forms of appropriation under the public land laws, including the general mining laws, except for conveyance under the Recreation and Public Purposes Act and leasing under the mineral leasing laws.

Dated: March 18, 2004.
Michael J. Blymyer,
Field Manger, Cody.

[FR Doc. 04-9892 Filed 4-30-04; 8:45 am]

BILLING CODE 4310-22-P